DEPARTMENT OF HOUSING AND URBAN DEVELOPMENT

[Docket No. FR-5121-N-19]

Notice of Proposed Information Collection: Comment Request; Mortgagee's Application for Partial Settlement, Multifamily Mortgage

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: August 21, 2007.

ADDRESSES: Interested persons are invited to submit comments regarding this proposal. Comments should refer to the proposal by name and/or OMB Control Number and should be sent to: Lillian Deitzer, Reports Management Officer, Department of Housing and Urban Development, 451 7th Street, Room 4178, Washington, DC 20410 or Lillian_L_Deitzer@HUD.gov.

FOR FURTHER INFORMATION CONTACT: Betty Belin, Accountant, Office of Financial Services, Department of Housing and Urban Development, 451 7th Street, SW., Washington, DC 20410, telephone (202) 401-2168 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Mortgagee's Application for Partial Settlement, Multifamily Mortgage.

OMB Control Number, if applicable: 2502-0427.

Description of the need for the information and proposed use: When a mortgage goes into default, the lender may elect to file with the Department a claim for insurance benefits. 12 U.S.C. 1713 (g) and Title II, Section 207 (g) of the National Housing Act provides that, “* * * the Mortgagee shall be entitled to receive the benefits of the insurance as hereinafter provided, upon assignment, transfer, and deliver to the Secretary, within a period and in accordance with rules and regulations to be prescribed by the Secretary of (1) all rights and interest arising under the mortgage in default: * * * at its option and in accordance with regulation, and in a period to be determined by the Secretary, proceed to foreclosure on and obtain possession of or other wise acquire such property after default and receive the benefits of the insurance and receive the benefits of the insurance as herein provided upon (1) the prompt conveyance to the Secretary the title of the property * * *” The Mortgagee may receive a portion of the benefits immediately after the assignment of conveyance.

Within 24 to 48 hours after an assignment or conveyance, the Secretary may pay to the Mortgagee a partial amount of insurance benefits. This payment is made prior to the Mortgagee filing the claim for insurance benefits. The information collected on the subject form, HUD-2537 (Mortgagee's Application for Partial Settlement-Multifamily Mortgage) provides the required data to determine the partial amount. The partial amount id computed in accordance with foregoing statutory provisions and regulations promulgated there under in 24 CFR 207 (B), Contract rights Obligations.

Agency form numbers, if applicable: HUD-2537.

Estimation of the total numbers of hours needed to prepare the information collection including number of respondents, frequency of response, and hours of response: The estimated number of respondents is 215, the frequency of response is one per claim submission, the total annual burden hours requested is 54.

Status of the proposed information collection: Extension of a currently approved collection.

Authority: The Paperwork Reduction Act of 1995, 44 U.S.C., Chapter 35, as amended.

Dated: June 18, 2007.
Frank L. Davis,
General Deputy Assistant Secretary for Housing-Deputy Federal Housing Commissioner.

[FR Doc. E7-12132 Filed 6-21-07; 8:45 am]

BILLING CODE 4210-67-P